DEPARTMENT OF AGRICULTURE

Forest Service

Withdrawal of Notice of Intent To Prepare an Environmental Impact Statement for Proposed Amendment of Rogue River, Umpqua and Winema National Forest Land and Resource Management Plans for the Pacific Connector Gas Pipeline

AGENCY: Forest Service, USDA.

ACTION: Withdrawal of notice of intent to prepare an EIS.

SUMMARY: In the Monday, June 15, 2009 Federal Register (FR) Vol. 74, No. 113, pages 28214-28217, the Forest Service announced its intention to prepare an Environmental Impact Statement (EIS) for amendment of land and resource management plans (LRMP) of the Rogue River, Umpqua and Winema National Forests to make provision for the Pacific Connector Gas Pipeline (PCGP) to cross national forest system lands. The Federal Energy Regulatory Commission (FERC) vacated the order that authorized the PCGP on April 16, 2012. With FERC's withdrawal of the current authorization for the PCGP, the proposal by the Forest Service to amend LRMPs to make provision for the PCGP is not ripe for decision. Therefore, the Forest Service is withdrawing the Notice of Intent to prepare an EIS published in 74 FR 28214, June 15, 2009.

DATES: This action is effective upon publication in the Federal Register.

FOR FURTHER INFORMATION CONTACT: Pam Sichting at 541-957-3342 or by email at psichting@fs.fed.us. Individuals who use telecommunication devices for the deaf (TDD) may call the Federal Information Relay Service (FIRS) at 1-800-877-8339 between 8 a.m. and 8 p.m., Eastern Time, Monday through Friday.

SUPPLEMENTARY INFORMATION: The PCGP has requested that FERC initiate pre-filing environmental review procedures for a new application to construct and operate a natural gas pipeline that crosses the Rogue River, Umpqua and Winema National Forests. Should FERC reinitiate environmental review under the procedures of the National Environmental Policy Act (NEPA), the Forest Service would cooperate with FERC in accordance with Section 313 of the 2005 Energy Policy Act and regulations for NEPA, 40 CFR 1501.6. Timely comments submitted by the public in response to the NOI published by the Forest Service in 74 FR 28214, June 15, 2009 would be considered as timely comments in any future scoping activity by the Forest Service for amendment of LRMPs in relation to the PCGP.

Dated: July 20, 2012.
Alice Carlton,
Forest Supervisor, Umpqua National Forest.

[FR Doc. 2012-19369 Filed 8-7-12; 8:45 am]

BILLING CODE 3410-75-P